DEPARTMENT OF ENERGY

Federal Energy Regulatory Commission

[Docket No. CP06-1-010]

Florida Gas Transmission Company; Notice of Motion To Vacate Certificate in Part

August 11, 2008.

Take notice that on August 1, 2008, Florida Gas Transmission Company (FGT), 5444 Westheimer Road, Houston, Texas 77056, filed in Docket No. CP06-1-010, a motion to vacate the certificate authority granted on June 15, 2006, in Docket No. CP06-1-000, to construct, own, and operate FGT's Phase VII Expansion Project facilities. FGT states that the planned construction of two 36-inch diameter pipeline loops totaling 15.3 miles in Levy and Hernando Counties, Florida, the rewheeling two existing compressor units at FGT's Station 27 in Hillsborough County, Florida, and the addition of appurtenant facilities, are no longer necessary due to a customer's decision to terminate its service commitment. FGT seeks to vacate the portion of its certificate that authorizes these facilities.

The motion is on file with the Commission and open for public inspection. This motion is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application should be directed to Frazier King or Dawn McGuire, Florida Gas Transmission Company (FGT), 5444 Westheimer Road, Houston, Texas 77056, (713) 998-2132.

There are two ways to become involved in the Commission's review of FGT's request. First, any person wishing to obtain legal status by becoming a party to this proceeding should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filings to the applicant and to every other party in the proceeding. Only parties to the proceeding can ask for court review of Commission orders in the proceeding.

However, other persons do not have to intervene in order to have comments considered. The second way to participate is by filing with the Secretary of the Commission, as soon as possible, an original and two copies of comments in support of or in opposition to FGT's request. The Commission will consider these comments in determining the appropriate action to be taken, but the filing of a comment alone will not serve to make the filer a party to the proceeding. The Commission's rules require that persons filing comments in opposition to this project provide copies of their protests only to the party or parties directly involved in the protest.

Persons who wish to comment only in support of or in opposition to FGT's request should submit an original and two copies of their comments to the Secretary of the Commission. The Commission's rules require that persons filing comments in opposition to the project provide copies of their protests only to the applicant. However, the non-party commenters will not receive copies of all documents filed by other parties or issued by the Commission and will not have the right to seek court review of the Commission's final order.

The Commission strongly encourages electronic filings of comments, protests, and interventions via the internet in lieu of paper. See 18 CFR 385.2001(a)(1)(iii) and the instructions on the Commission's Web site (www.ferc.gov) under the “e-Filing” link.

Comment Date: September 1, 2008.

Nathaniel J. Davis, Sr.,
Deputy Secretary.

[FR Doc. E8-19004 Filed 8-15-08; 8:45 am]

BILLING CODE 6717-01-P